DEPARTMENT OF JUSTICE

Notice of Lodging of Proposed Amendment to Consent Decree Under the Comprehensive Environmental Response, Compensation and Liability Act, Clean Water Act, and the Pennsylvania Hazardous Sites Cleanup Act

Notice is hereby given that on August 3, 2009, a proposed Amendment to Consent Decree (“Amendment”), pertaining to United States v. Horsehead Industries Inc., 3:CV-98-0654, was lodged with the United States District Court for the Middle District of Pennsylvania. The proposed Amendment amends the consent decree entered by the Court on November 21, 2003 (“2003 Decree”), which addressed certain claims of the United States under Sections 106 and 107 of the Comprehensive Environmental Response, Compensation, and Liability Act of 1980, as amended (“CERCLA”), 42 U.S.C. 9606 and 9607, concerning response costs and remedial actions relating to the Palmerton Zinc Pile Superfund Site (“Site”) in Palmerton, Pennsylvania.

The proposed Amendment (1) substitutes and/or adds parties as Settling Defendants under the 2003 Decree and this Amendment, taking into account several corporate reorganizations and other transactions and events that have occurred since entry of the 2003 Decree; and (2) resolves, in a manner consistent with the ongoing remedial process at the Site, certain claims of the United States of America (“United States”) and the Commonwealth of Pennsylvania (“Commonwealth”) for Natural Resource Damages (“NRD”) under Sections 107(a)(4)(C) and 107(f) of CERCLA, 42 U.S.C. 9607(a)(4)(C) and (f), Sections 311(f)(4) and (5) of the Clean Water Act (“CWA”), 33 U.S.C. 1321(f)(4) and (5), and Section 702(a) of the Pennsylvania Hazardous Sites Cleanup Act (“HSCA”), 35 P.S. § 6020.702(a).

Under the terms of the Amendment, the Defendants will make a payment of $9.875 million to be used to restore, replace, or acquire the equivalent of natural resources injured as a result of releases of hazardous substances at the Palmerton Zinc site. The Defendants will also pay $2.5 million for damage assessment costs. In addition, the Defendants will transfer twelve hundred acres of valuable property to the Pennsylvania Game Commission and discharge a mortgage on a nature center located at the Lehigh Gap.

The Department of Justice will receive, for a period of thirty (30) days from the date of this publication, comments relating to the Amendment. Comments should be addressed to the Assistant Attorney General, Environment and Natural Resources Division, and either e-mailed to pubcomment-ees.enrd@usdoj.gov or mailed to P.O. Box 7611, U.S. Department of Justice, Washington, DC 20044-7611, and should refer to United States v. Horsehead Industries Inc., DOJ No. 90-11-2-271/4. The proposed Amendment may be examined at the Offices of the Environmental Protection Agency, Region 3, 1650 Arch Street, Philadelphia, Pennsylvania 19103 (contact Assistant Regional Counsel Cynthia Nadolski (215) 814-2673) and at the Office of the United States Attorney for the Middle District of Pennsylvania, Harrisburg Federal Bldg. and Courthouse, 228 Walnut Street, Suite 220, P.O. Box 11754, Harrisburg, PA 17108-1754 (contact Assistant U.S. Attorney D. Brian Simpson (717) 221-4482). During the public comment period, the Amendment may also be examined on the following Department of Justice Web site: http://www.usdoj.gov/enrd/Consent_Decrees.html. A copy of the proposed Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $33.50 (25 cents per page reproduction cost), payable to the U.S. Treasury or, if by e-mail or fax, forward a check in that amount to the Consent Decree Library at the stated address.

Maureen Katz,
Assistant Section Chief, Environmental Enforcement Section, Environment and Natural Resources Division.

[FR Doc. E9-18971 Filed 8-6-09; 8:45 am]

BILLING CODE 4410-15-P